FEDERAL COMMUNICATIONS COMMISSION

47 CFR Part 73

[DA 01-248, MM Docket No. 01-29, RAM-10044]

Digital Television Broadcast Service; Butte, MT

AGENCY: Federal Communications Commission.

ACTION: Proposed rule.

SUMMARY: The Commission requests comments on a petition filed by Eagle Communications, Inc., licensee of station KTVM(TV), NTSC channel 6, Butte, Montana, proposing the substitution of DTV channel 33 for station KTVM(TV)'s assigned DTV channel 2. DTV Channel 33 can be allotted to Butte, Montana, in compliance with the principle community coverage requirements of Section 73.625(a) at reference coordinates (46-00-27 N. and 112-26-30 W.). As requested, we propose to allot DTV Channel 33 to Butte with a power of 1000 and a height above average terrain (HAAT) of 576 meters. However, since the community of Butte is located within 400 kilometers of the U.S.-Canadian border, concurrence by the Canadian government must be obtained for this proposal.

DATES: Comments must be filed on or before March 26, 2001, and reply comments on or before April 10, 2001.

ADDRESSES: Federal Communications Commission, 445 12th Street, SW., Room TW-A325, Washington, DC 20554. In addition to filing comments with the FCC, interested parties should serve the petitioner, or its counsel or consultant, as follows: Arthur B. Goodkind, Holland & Knight LLP, 2100 Pennsylvania Avenue, NW., Suite 400, Washington, 20037-3202 (Counsel for Eagle Communications, Inc.).

FOR FURTHER INFORMATION CONTACT: Pam Blumenthal, Mass Media Bureau, (202) 418-1600.

SUPPLEMENTARY INFORMATION: This is a synopsis of the Commission's Notice of Proposed Rule Making, MM Docket No. 01-29, adopted February 1, 2001, and released February 2, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Montana is amended by removing DTV Channel 2 and adding DTV Channel 33 at Butte.

Federal Communications Commission.
Dated:
Barbara A. Kreisman,
Chief, Video Services Division, Mass Media Bureau.

[FR Doc. 01-3048 Filed 2-5-01; 8:45 am]

BILLING CODE 6712-01-P